DEPARTMENT OF LABOR

Employment and Training Administration

[TA-W-58,725]

Rutgers Organics Corporation, State College, PA; Notice of Termination of Investigation

Pursuant to section 221 of the Trade Act of 1974, as amended, an investigation was initiated on January 26, 2006, in response to a worker petition filed by a company official on behalf of workers at Rutgers Organics Corporation, State College, Pennsylvania.

The petitioner has requested that the petition be withdrawn. Consequently, the investigation has been terminated.

Signed at Washington, DC, this 31st day of January, 2006.
Richard Church,
Certifying Officer, Division of Trade Adjustment Assistance.

[FR Doc. E6-2483 Filed 2-21-06; 8:45 am]

BILLING CODE 4510-30-P